PRESIDENT'S COUNCIL ON INTEGRITY AND EFFICIENCY

Notice of Continuing Need for Quality Federal Auditor Training

AGENCY: The President's Council on Integrity and Efficiency is an interagency committee.

ACTION: Notice of Continuing Need for Quality Federal Auditor Training.

SUMMARY: The President's Council on Integrity and Efficiency (PCIE) with the Executive Council on Integrity and Efficiency (ECIE) recognizes a continuing need to provide quality training to personnel employed by the Federal Offices of Inspectors General (OIG). Accordingly, those who may be interested in developing and/or delivering courses/curriculum focused on the continuing educational needs of the Federal OIG Audit Community are encouraged to visit the Inspector General Community Auditor Training Web site at http://www.ignet.gov/pande/igcats/index.htm. Among other things, this Web site contains information on the types of courses that had been offered by the Inspectors General Auditor Training Institute in the past, PCIE sponsored assessments of many of those courses, as well as general information about the Federal OIG Community.

FOR FURTHER INFORMATION CONTACT: Kim Geier, Department of Education, Office of Inspector General, 400 Maryland Avenue, SW., Washington, DC 20202; telephone: (202) 245-7020; fax: (202) 245-7088; e-mail: kim.geier@ed.gov.

SUPPLEMENTARY INFORMATION: The PCIE is authorized by Executive Order 12805 to address integrity, economy, and effectiveness issues that transcend individual Government agencies, and to increase the professionalism and effectiveness of OIG personnel throughout the Government.

Note: The official version of this document is the document published in the Federal Register. Free Internet access to the official edition of the Federal Register and the Code of Federal Regulations is available on GPO Access at: http://www.gpoaccess.gov/nara/index.html.

John P. Higgins, Jr.,
PCIE Audit Committee and Department of Education Inspector General.

[FR Doc. E8-14705 Filed 6-27-08; 8:45 am]

BILLING CODE 4000-01-P